Proclamation 10337 of January 31, 2022

National Black History Month, 2022

By the President of the United States of America

A Proclamation

Each February, National Black History Month serves as both a celebration and a powerful reminder that Black history is American history, Black culture is American culture, and Black stories are essential to the ongoing story of America—our faults, our struggles, our progress, and our aspirations. Shining a light on Black history today is as important to understanding ourselves and growing stronger as a Nation as it has ever been. That is why it is essential that we take time to celebrate the immeasurable contributions of Black Americans, honor the legacies and achievements of generations past, reckon with centuries of injustice, and confront those injustices that still fester today.

Our Nation was founded on an idea: that all of us are created equal and deserve to be treated with equal dignity throughout our lives. It is a promise we have never fully lived up to but one that we have never, ever walked away from. The long shadows of slavery, Jim Crow, and redlining—and the blight of systemic racism that still diminishes our Nation today—hold America back from reaching our full promise and potential. But by facing those tragedies openly and honestly and working together as one people to deliver on America's promise of equity and dignity for all, we become a stronger Nation—a more perfect version of ourselves.

Across the generations, countless Black Americans have demonstrated profound moral courage and resilience to help shape our Nation for the better. Today, Black Americans lead industries and movements for change, serve our communities and our Nation at every level, and advance every field across the board, including arts and sciences, business and law, health and education, and many more. In the face of wounds and obstacles older than our Nation itself, Black Americans can be seen in every part of our society today, strengthening and uplifting all of America.

Vice President Harris and I are deeply committed to advancing equity, racial justice, and opportunity for Black Americans as we continue striving to realize America's founding promise. That began by building a Federal Government that looks like America: including the first Black Secretary of Defense, the first Black woman to head the Office of Management and Budget, the first Black man to lead the Environmental Protection Agency, the first Black woman to lead the Department of Housing and Urban Development in more than 40 years, the first Black chair of the White House Council of Economic Advisors, a Black Ambassador representing America at the United Nations, and the first Black and South Asian Vice President in our history. We have been proud to appoint accomplished Black Americans to serve in a vast array of roles across our Administration. I am prouder still to have already nominated eight Black women to serve as Federal appellate judges—matching in just 1 year the total number of Black women who have ever served on Federal appeals courts.

My Administration has worked hard to reverse decades of underinvestment in Black communities, schools, and businesses. Both the American Rescue Plan and the Bipartisan Infrastructure Law are making historic investments in Black America—from vaccine shots in arms to checks in families' pockets and tax cuts for working families with children to a landmark $5.8 billion investment in and support for Historically Black Colleges and Universities. And in my first year in office, the American Rescue Plan provided the full Child Tax Credit to the lower income families of more than 26 million children—who are disproportionately Black—and put us on a path to cut Black child poverty in half.

As the Infrastructure Law continues to be implemented, we will expand on that progress. Lead service lines that have contaminated the water of too many homes and schools in Black communities will be removed and replaced. We will deliver high-speed internet to every community so that no Black family is left behind in the 21st century economy. Historic investments in public transportation will help more people in more neighborhoods get to where good jobs actually are quickly and safely. We will reconnect Black neighborhoods cut off from opportunity by highways that were built to brush them aside. Long-standing environmental injustices that have hit Black communities the hardest will be remediated. We will deliver major investments in Black entrepreneurs and small businesses—including making the Minority Business Development Agency permanent and seeding it with a record $110 million in new resources to help level the playing field for Black businesses.

But this is only the start. To fulfill America's promise for all, we will work tirelessly in the year ahead to deliver on my Build Back Better agenda, bringing down the costs that families face on child care, housing, education, health care, prescription drugs, and so much more. We will continue to battle the COVID-19 pandemic with equity at the center of our response. We will not rest until we have protected the foundation of our democracy: the sacred right to vote. And we will fight to keep dismantling all of those structural inequities that have served as barriers for Black families for generations.

As we celebrate National Black History Month, let us all recommit ourselves to reach for that founding promise. Let us continue to fight for the equity, opportunity, and dignity to which every Black American is due in equal measure. Let us carry forward the work to build an America that is, in the beautiful words of the poet Amanda Gorman, “Bruised, but whole—benevolent, but bold, fierce, and free.”

NOW, THEREFORE, I, JOSEPH R. BIDEN JR., President of the United States of America, by virtue of the authority vested in me by the Constitution and the laws of the United States, do hereby proclaim February 2022 as National Black History Month. I call upon public officials, educators, librarians, and all the people of the United States to observe this month with appropriate programs, ceremonies, and activities.

IN WITNESS WHEREOF, I have hereunto set my hand this thirty-first day of January, in the year of our Lord two thousand twenty-two, and of the Independence of the United States of America the two hundred and forty-sixth.

[FR Doc. 2022-02456

Filed 2-2-22; 11:15 am]

Billing code 3395-F2-P